FEDERAL COMMUNICATIONS COMMISSION

47 CFR Part 1

[WT Docket No. 19-212; DA 21-387; FR ID 20567]

Completing the Transition to Electronic Filing, Licenses and Authorizations, and Correspondence in the Wireless Radio Services

AGENCY: Federal Communications Commission.

ACTION: Final rule.

SUMMARY: In this document, the Federal Communications Commission (Commission) adopted an Order announcing changes to the Commission's rules that will become effective. To conform changes to a rule regarding submission of environmental assessments that the Commission had made in two prior decisions, the Commission amends the non-substantive, editorial revisions by adding language pertaining to electronic filing.

DATES: Effective June 29, 2021.

FOR FURTHER INFORMATION CONTACT: Warren Firschein email: warren.firschein@fcc.gov of the Office of the Managing Director; or call the Office of the Managing Director at (202) 418-2653.

SUPPLEMENTARY INFORMATION: This is a synopsis of the Commission's Order, ET Docket No. 19-126, DA 21-387, adopted and released on April 2, 2021. The full text of this document is available for public inspection and can be downloaded at: https://docs.fcc.gov/public/attachments/DA-21-387A1.pdf or by using the search function for ET Docket No. 19-126 on the Commission's ECFS web page at www.fcc.gov/ecfs.

Synopsis

1. The Commission updated the language of 47 CFR 1.1307(b) of the Commission's rules to insert the word “electronically.” This step is necessary because of two separate actions the Commission took to amend § 1.1307 of the rules. On December 4, 2019, the Commission adopted a Second Report and Order in ET Docket No. 19-226, FCC 19-126. The Report and Order made amendments to § 1.1307(b) that did not take effect immediately, pending concurrence by the Office of Management and Budget under the Paperwork Reduction Act. On September 16, 2020, the Commission adopted a Report and Order in WT Docket No. 19-212, FCC 20-126, that modified the text of § 1.1307(b) that was then in effect. The decision, which added references to electronic filing in multiple rule parts, was published in the Federal Register on December 29, 2020. The modifications to § 1.1307 are not scheduled to take effect until June 29, 2021.

Procedural Matters

A. Final Regulatory Flexibility Analysis

2. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

3. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

4. The Commission will not send a copy of the Order pursuant to the Congressional Review Act, see 5 U.S.C. 801(a)(1)(A), because the adopted rules are rules of agency organization, procedure, or practice that do not “substantially affect the rights or obligations of non-agency parties. See 5 U.S.C. 804(3)(C).

Ordering Clause

5. Accordingly, it is ordered, pursuant to the authority delegated under 47 CFR 0.23l(b), 47 CFR 1.1307(b) is amended as set forth below effective June 29. 2021 and substituting for and superseding the corresponding amendment to § 1.1307(b) contained in 85 FR 33578 that would otherwise become effective on June 29, 2021.

List of Subjects in 47 CFR Part 1

Administrative practice and procedure.

Federal Communications Commission.
Marlene Dortch,
Secretary.

Final Rules

For the reasons discussed in the preamble, the Federal Communications Commission amends 47 CFR part 1 as follows:

PART 1—PRACTICE AND PROCEDURE

1. The authority citation to part 1 continues to read as follows:

Authority: 47 U.S.C. chs. 2, 5, 9, 13; 28 U.S.C. 2461 note, unless otherwise noted.

2. Section 1.1307 is amended by revising paragraph (b)(1)(ii) to read as follows:

§ 1.1307 Actions that may have a significant environmental effect, for which Environmental Assessments (EA) must be prepared.

* * * * *

(b)(1) * * *

(ii) Compliance with these limits for fixed RF source(s) may be accomplished by use of mitigation actions, as provided in § 1.1307(b)(4). Upon request by the Commission, the party seeking or holding such authorization must electronically submit technical information showing the basis for such compliance, either by exemption or evaluation. Notwithstanding the preceding requirements, in the event that RF sources cause human exposure to levels of RF radiation in excess of the limits in § 1.1310 of this chapter, such RF exposure exemptions and evaluations are not deemed sufficient to show that there is no significant effect on the quality of the human environment or that the RF sources are categorically excluded from environmental processing.

* * * * *

[FR Doc. 2021-07719 Filed 4-19-21; 8:45 am]

BILLING CODE 6712-01-P